DEPARTMENT OF AGRICULTURE

Office of the Secretary

Commission on 21st Century Production Agriculture; Notice of Meeting

SUMMARY: The U.S. Department of Agriculture (USDA) has established the Commission on 21st Century Production Agriculture. In accordance with Section 10(a)(2) of the Federal Advisory Committee Act (FACA), notice is hereby given of the meetings in November/December of the Commission on 21st Century Production Agriculture. The purpose of the meetings on November 30 and December 1, 2000 is a working session to address issues regarding agricultural policy initiatives to be included in the Commission report. These meetings are open to the public.

PLACE, DATE, AND TIME OF MEETING: The meetings will be held November 30, 2000, from 8:30 pm-5:00 pm, in Room 108-A, Whitten Building and December 1, 2000, from 8:30 am to 5:00 pm, in Room 221-A, Whitten Building, U.S. Department of Agriculture.

FOR FURTHER INFORMATION CONTACT: Mickey Paggi (202-720-3139), Director, Commission on 21st Century Production Agriculture, Room 3702 South Building, 1400 Independence Avenue, SW, Washington, DC 20250-0524.

Dated: November 13, 2000.
Keith J. Collins,
Chief Economist.

[FR Doc. 00-29441 Filed 11-16-00; 8:45am]

BILLING CODE 3410-01-M